DEPARTMENT OF STATE

[Public Notice 6292]

U.S. Department of State Advisory Committee on Private International Law: Notice of Meeting

The Department of State's Advisory Committee on Private International Law (ACPIL) will hold its annual meeting on the “state of the world” concerning private international law on Monday, October 6th and Tuesday, October 7th, 2008 in Washington, DC. The meeting will be held at the Michael K. Young Faculty Conference Center, George Washington University Law School, 2000 H Street, NW., Washington, DC 20052 and will begin at 10 a.m. on Monday and at 9:30 a.m. on Tuesday. The meeting will conclude at 5 p.m. on both days.

Subject to time limitations, we expect to provide updates on trends and developments in a number of areas: International Family Law (including the 2007 Child Support Convention); the recently concluded UNCITRAL Convention on Contracts for the International Carriage of Goods Wholly or Partly by Sea; Commercial Law Treaties (Securities Conventions, Geneva conference and the EU, intellectual property, e-commerce, rail and space satellite finance, the UNIDRIT model leasing law); International/Comparative Government Procurement; the OAS and the CIDIP VII process (consumer protection and secured transactions registry); and issues related to ratification and implementation of PIL treaties in our federal system. Ample time will be provided for open discussion, so we hope to have broad and active participation from a wide range of interested parties.

Documents on these subjects are obtainable at http://www.uncitral.org; http://www.hcch.net; http://www.unidroit.org; and http://www.oas.org. Additional documents will be provided by e-mail wherever possible. Comments on any topic within the agenda mentioned above will be welcomed from those unable to attend.

Please advise us as early as possible if you plan to attend. The meeting is open to the public up to the capacity of the meeting room. Interested persons are invited to attend and to express their views. Persons who wish to have their view considered are encouraged, but not required, to submit written comments in advance. Comments should be sent electronically to SmeltzerTK@State.gov. Anyone planning to attend this meeting is requested to provide his or her name, affiliation and contact information in advance to Trish Smeltzer or Niesha Toms at (202) 776-8420 or by e-mail to TomsNN@State.gov.

To register or obtain further information, please contact Niesha Toms at TomsNN@State.gov. The direct number for the office is (202) 776-8420, fax (202) 776-8482. For updates pertaining to this meeting as well as future notices, please provide our office with current e-mail and fax numbers when you reply. If you do not plan to attend the meeting, you are encouraged to provide your contact information to be kept abreast of PIL developments.

Dated: September 11, 2008.
Niesha Toms,
Office of Private International Law, Department of State.

[FR Doc. E8-21755 Filed 9-16-08; 8:45 am]

BILLING CODE 4710-08-P